DEPARTMENT OF ENERGY

Federal Energy Regulatory Commission

[Project No. 1971-135]

Idaho Power Company; Notice of Intent To Prepare an Environmental Assessment

On October 6 and 7, 2022, and supplemented October 21, 2022, March 17, 2023, April 10, 2023, and July 17, 2023, Idaho Power Company filed an application for a non-capacity amendment of its license for the Hells Canyon Project No. 1971. The project is located on the Snake River in Adams and Washington counties, Idaho, and in Baker, Wallowa, and Malheur counties, Oregon. Federal lands administered by the U.S. Forest Service and the Bureau of Land Management (Payette and Wallowa-Whitman National Forests and Hells Canyon National Recreational Area) are included within the project boundary.

The licensee proposes to perform maintenance work on the turbines and generators at the Oxbow Development of the project. The work would increase the authorized installed capacity of the project from 1,222,300 kilowatts (kW) to 1,252,065 kW. To facilitate the turbine and generator maintenance work, the licensee is also proposing to: (1) extend the existing erection deck to the east; and (2) provide an area for additional parking and a job trailer. The deck extension would be approximately 100 feet by 84 feet and would necessitate relocating the septic drain field for the Oxbow power plant and increasing the amount of security fencing. The total disturbance area to the east of the existing erection deck would be approximately 0.75 acre. The licensee planned to commence construction of the erection deck in 2023 and begin the maintenance work on the first unit in 2025. The licensee would take a single unit off-line periodically between September 2025 and September 2029. The licensee is not proposing any changes to project operations nor has the licensee proposed variances to license conditions to complete the work. None of the work for the turbine and generator maintenance would involve in-water work and the licensee would use best management practices for all construction work.

On April 10, 2023, the Commission issued a public notice for the proposed amendment. On April 28, May 1, May 5, May 9, May 10, and May 10, 2023, the State of Oregon by and through the Oregon Department of Environmental Quality, Oregon Department of Fish and Wildlife, Oregon Water Resources Department, National Marine Fisheries Service, the Confederated Tribes of the Umatilla Indian Reservation, and the State of Idaho,¹ respectively, filed notices of intervention. On May 11, 2023, the Columbia River Inter-Tribal Fish Commission and Upper Snake River Tribes Foundation, Inc. filed untimely motions to intervene, which were granted on March 7, 2024. On May 11, 2023, the U.S. Department of the Interior, Bureau of Indian Affairs filed comments. On October 24, 2023, the U.S. Fish and Wildlife Service filed a letter with the Commission concurring with Commission staff's determination that the proposed action may affect but is not likely to adversely affect bull trout or bull trout critical habitat.

¹ On behalf of the Idaho Department of Fish and Game, the Idaho Water Resources Board, and the Idaho Department of Environmental Quality.

This notice identifies Commission staff's intention to prepare an environmental assessment (EA) for the project. The planned schedule for the completion of the EA is October 30, 2024.² Revisions to the schedule may be made as appropriate. The EA will be issued and made available for review by all interested parties. All comments filed on the EA will be reviewed by staff and considered in the Commission's final decision on the proceeding.

² 42 U.S.C. 4336a(g)(1)(B) requires lead federal agencies to complete EAs within 1 year of the agency's decision to prepare an EA. This notice establishes the Commission's intent to prepare an EA for the project; therefore, the EA must be issued within 1 year of the issuance date of this notice.

With this notice, the Commission is inviting federal, state, local, and Tribal agencies with jurisdiction and/or special expertise with respect to environmental issues affected by the proposal that wish to cooperate in the preparation of the environmental assessment to contact staff for further instructions. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Jeremy Jessup at 202-502-6779 or Jeremy.Jessup@ferc.gov.

Dated: June 14, 2024.
Debbie-Anne A. Reese,
Acting Secretary.

[FR Doc. 2024-13721 Filed 6-21-24; 8:45 am]

BILLING CODE 6717-01-P